DEPARTMENT OF EDUCATION

Applications for New Awards; Educational Technology, Media, and Materials for Individuals With Disabilities Program—Stepping-Up Technology Implementation

AGENCY: Office of Special Education and Rehabilitative Services, Department of Education.

ACTION: Notice.

SUMMARY: The Department of Education (Department) is issuing a notice inviting applications for new awards for fiscal year (FY) 2024 for Stepping-up Technology Implementation, Assistance Listing Number 84.327S. This notice relates to the approved information collection under OMB control number 1820-0028.

DATES:

Applications Available: March 1, 2024.

Deadline for Transmittal of Applications: April 30, 2024.

Deadline for Intergovernmental Review: July 1, 2024.

Pre-Application Webinar Information: No later than March 6, 2024, the Office of Special Education Programs and Rehabilitative Services will post details on pre-recorded informational webinars designed to provide technical assistance to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs.

FOR FURTHER INFORMATION CONTACT: Anita Vermeer, U.S. Department of Education, 400 Maryland Avenue SW, Room 4A10, Washington, DC 20202. Telephone: (202) 987-0155. Email: anita.vermeer@ed.gov.

If you are deaf, hard of hearing, or have a speech disability and wish to access telecommunications relay services, please dial 7-1-1.

SUPPLEMENTARY INFORMATION:

Full Text of Announcement

I. Funding Opportunity Description

Purpose of Program: The purpose of the Educational Technology, Media, and Materials for Individuals with Disabilities Program (ETechM2 Program) is to improve results for children with disabilities by (1) promoting the development, demonstration, and use of technology; (2) supporting educational activities designed to be of educational value in the classroom for children with disabilities; (3) providing support for captioning and video description that is appropriate for use in the classroom; and (4) providing accessible educational materials to children with disabilities in a timely manner.¹

¹ Applicants should note that other laws, including the Americans with Disabilities Act of 1990 (42 U.S.C. 12101 et seq.; 28 CFR part 35) and section 504 of the Rehabilitation Act of 1973, as amended (29 U.S.C. 794; 34 CFR part 104), may require that State educational agencies (SEAs) and local educational agencies (LEAs) provide captioning, video description, and other accessible educational materials to students with disabilities when these materials are necessary to provide equally integrated and equally effective access to the benefits of the educational program or activity, or as part of a “free appropriate public education” as defined in 34 CFR 104.33.

Priorities: This competition includes one absolute priority and one competitive preference priority. In accordance with 34 CFR 75.105(b)(2)(v), the absolute priority is from allowable activities specified in sections 674(b)(2) and 681(d) of the Individuals with Disabilities Education Act (IDEA); 20 U.S.C. 1474(b)(2) and 1481(d). The competitive preference priority is from the Secretary's Administrative Priorities for Discretionary Grant Programs published in the Federal Register on March 9, 2020 (85 FR 13640) (Administrative Priorities).

Absolute Priority: For FY 2024 and any subsequent year in which we make awards from the list of unfunded applications from this competition, this priority is an absolute priority. Under 34 CFR 75.105(c)(3), we consider only applications that meet this priority.

This priority is:

Use of Artificial Intelligence (AI) ² to Meet Individual Needs of Students with Disabilities Through Learning and Assessment.

² The term “artificial intelligence” or “AI” has the meaning set forth in 15 U.S.C. 9401(3): a machine-based system that can, for a given set of human-defined objectives, make predictions, recommendations, or decisions influencing real or virtual environments. Artificial intelligence systems use machine- and human-based inputs to perceive real and virtual environments; abstract such perceptions into models through analysis in an automated manner; and use model inference to formulate options for information or action.

Background

The evolution and recent developments in educational technology tools integrating AI have generated increased interest in the potential of AI to transform and support innovations in learning across educational settings for all learners, including learners with disabilities. As part of the Administration's comprehensive strategy related to responsible innovation afforded by AI, the Department (2023) released a report that summarizes the opportunities and risks for AI in teaching and learning. Such opportunities for using AI in educational technologies include promising innovations to improve student-educator interactions, address individual learner needs and leverage learner strengths, refine feedback loops that improve learner outcomes, and support educators by reducing administrative task burden and improving practices.

Opportunities to leverage educational technology tools integrating AI to improve learning outcomes and advance equity have been noted for all learners (e.g., Chen et al., 2022; Huang et al., 2021; Zafari et al., 2022; U.S. Department of Education, 2023). Research indicates that these technologies hold promise in supporting individualized instruction and intervention and improving access in multiple areas, including communication, social, literacy, and mathematical skills (e.g., Barua et al., 2022; U.S. Department of Education, 2023). Therefore, it is critical that children with disabilities are provided appropriate levels of support in using existing and developing educational technologies integrating AI (e.g., Barua et al., 2022; Marino et al., 2023) to enhance learner outcomes.

As educational technology tools that integrate AI continue to be developed and made available, factors that support their successful implementation in educational settings need to be considered. For example, evidence-based intelligent tutoring systems have demonstrated positive outcomes for learners, but additional research is needed on how to effectively implement such systems in different settings (e.g., Phillips et al., 2020), including how best to support children with disabilities.

The role of the educator in implementing these technologies to complement ongoing instruction and intervention is critical in supporting children with disabilities (e.g., U.S. Department of Education, 2023). Several key factors that facilitate or limit successful implementation of educational technology tools in educational settings have been noted, including buy-in by and sustainability with users, alignment with existing priorities, development of materials to support fidelity of implementation, how the data are used, technology infrastructure, and data security (e.g., Evmenova et al., 2023; U.S. Department of Education, 2023).

Priority

The purpose of this priority is to fund four cooperative agreements to establish and operate projects that achieve, at a minimum, the following expected outcomes:

(a) Improved student outcomes using an evidence-based technology-based tool or approach ³ that integrates AI;

³ For the purposes of this priority, projects must meet at least the definition of “promising evidence,” which means that there is evidence of the effectiveness of a key project component in improving a relevant outcome, based on a relevant finding from one of the following: (a) a practice guide prepared by the What Works Clearinghouse (WWC) reporting a “strong evidence base” or “moderate evidence base” for the corresponding practice recommendation; (b) an intervention report prepared by the WWC reporting a “positive effect” or “potentially positive effect” on a relevant outcome with no reporting of a “negative effect” or “potentially negative effect” on a relevant outcome; or (c) a single study assessed by the Department, as appropriate, that is an experimental study, a quasi-experimental design study, or a well-designed and well-implemented correlational study with statistical controls for selection bias (e.g., a study using regression methods to account for differences between a treatment group and a comparison group); and includes at least one statistically significant and positive (i.e., favorable) effect on a relevant outcome. See 34 CFR 77.1 for definitions of “project component,” “promising evidence,” “experimental study,” “moderate evidence,” “quasi-experimental design study,” “relevant outcome,” and “strong evidence.”

(b) Improved educator ⁴ use and knowledge of an evidence-based technology-based tool or approach using AI to deliver effective instruction to students with disabilities;

⁴ For the purpose of this priority, “educators” include teachers, early childhood providers, administrators, paraprofessionals, and other providers.

(c) Improved educator collaboration and professional learning opportunities focusing on improving outcomes for student with disabilities using an evidence-based technology-based tool or approach using AI;

(d) Improved educator and family engagement regarding the use of an evidence-based technology-based tool or approach using AI to support student learning; and

(e) Sustained use of the evidence-based technology-based tool or approach using AI by aligning its use with existing instructional priorities and initiatives.

To be considered for funding under this priority, in the application, applicants must describe the—

(a) Evidence-based technology-based tool or approach that is ready to use at the time of the application submission. If the AI component is not yet completed, describe how this will be integrated within the first year and how it will enhance the current developed technology-based tool or approach;

(b) Outcomes of students with disabilities that will be improved by implementing the technology-based tool or approach using AI;

(c) Approach to increase educators' use and knowledge of the technology-based tool or approach using AI to improve the outcomes of students with disabilities in an instructional setting; ⁵ and

⁵ For the purposes of this priority, an instructional setting can be an environment that is regulated by the public school or an “early childhood education program,” as defined under the Higher Education Act of 1965, as amended, within the local educational agency (LEA) (Pub. L. 110-315, title VIII, section 801, Aug. 14, 2008, 122 Stat. 3398).

(d) Fully accessible products and resources that will help educators and families to effectively use and implement the technology-based tool or approach using AI (See for example, NIST AI Risk Management Framework— https://nvlpubs.nist.gov/nistpubs/ai/NIST.AI.100-1.pdf-for information on managing risks across the AI lifecycle).

Note: Grantees may, but are not required to, use up to the first 12 months of the performance period and up to $200,000 of funds awarded in the first budget period for project development activities, including technology enhancement, prior to implementing the tool or approach in instructional settings. If an applicant proposes to use the first year for project development activities, then the applicant must provide sufficient justification, including the goals, objectives, and intended outcomes at the end of year one.

In addition to these programmatic requirements and application requirements, to be considered for funding under this priority, applicants must also meet the following application and administrative requirements:

(a) Demonstrate, in the narrative section of the application under “Significance,” how the proposed project will address the need for a technology-based tool or approach that integrates AI. To meet this requirement applicants must—

(1) Verify that the developed technology-based tool or approach and core components of the intervention are based on at least promising evidence;

(2) Describe how AI will be used with the identified technology-based tool or approach and describe the potential to improve student outcomes;

(3) Describe the current impact and reach of the technology-based tool or approach that is currently developed and include the population of users and, if the applicant has received any Federal funding within the last three years related to this technology-based tool or approach, describe how the funding impacted the reach and current use;

(4) Identify how the technology-based tool or approach using AI will improve educators' pedagogy and their capacity to deliver effective instruction for students with disabilities in PK-12 instructional settings;

(5) Identify how the technology-based tool or approach using AI will improve parent/family engagement/partnership to support student learning;

(6) Present applicable national, State, regional, or local data demonstrating the need for the identified technology-based tool or approach using AI to enhance the outcomes for students with disabilities;

(7) Identify how the proposed technology-based tool or approach using AI aligns with current policies, procedures, and practices used by educators to enhance the outcomes for students with disabilities; and

(8) Identify systemic barriers, gaps, or challenges, including challenges to using the identified technology-based tool or approach using AI.

(b) Demonstrate, in the narrative section of the application under “Quality of project services,” how the proposed project will—

(1) Ensure equal access and treatment for members of groups that have traditionally been underrepresented based on race, color, national origin, gender, age, or disability. To meet this requirement, the applicant must describe how it will—

(i) Identify the target population, including students with disabilities and their educators, that the applicant will service, the need that population has for the technology-based tool or approach, and the intended recipients for ongoing professional learning and coaching support; and

(ii) Ensure that the products and resources meet the needs of the intended recipients of this grant;

(2) Utilize a design process for the implementation approach that promotes sustainability of the technology-based tool or approach using AI beyond the life of the project;

(3) Achieve its goals, objectives, and intended outcomes. To meet this requirement, the applicant must provide measurable intended project outcomes;

(4) Be based on current research. To meet this requirement, the applicant must—

(i) Describe how the proposed project will align with current research, policies, and practices related to the benefits, services, or opportunities that are available using the technology-based tool or approach;

(ii) Describe how the proposed project will incorporate current and evidence-based research and practices, including research and practices relating to accessibility and usability, to guide the development and delivery of its products and resources; and

(iii) Document that the technology-based tool or approach to be used by the proposed project is developed, has been tested and shown to have promising evidence, and addresses, at a minimum, the following principles of universal design for learning:

(A) Multiple means of representation so that information can be delivered in more than one way (e.g., specialized software and websites, customizing display for visual or physical modalities);

(B) Multiple means of expression that allow knowledge to be exhibited through options (e.g., writing, online concept mapping, or speech-to-text programs, where appropriate); and

(C) Multiple means of engagement to stimulate interest in and motivation for learning (e.g., individual or group learning experiences or activities, learner choice); and

(5) Develop and implement products and resources that are of high quality and sufficient intensity and duration to achieve the intended outcomes of the proposed project. To address this requirement, the applicant must—

(i) Provide a plan for recruiting and selecting sites from a variety of instructional settings that include the targeted population including students with disabilities, which must include the following:

(A) Two product and resource development sites.⁶ Applicants must describe at least two proposed product and resource development sites, where the project would conduct iterative development of the products and resources intended to support the implementation of the technology-based tool or approach and produce, by the end of year two, preliminary feasibility and useability data. Applicants must include a letter in Appendix A from at least one site that indicates agreement to serve as a product and resource development site, at a minimum, in year one of the project.

⁶ A “site” is a public school building or an “early childhood education program,” as defined under the Higher Education Act, within the local educational agency (LEA) (Pub. L. 110-315, title VIII, section 801, Aug. 14, 2008, 122 Stat. 3398).

(B) Three pilot sites. Pilot sites are the sites in which ongoing refinement of the developed products and resources, and the continued collection of feasibility and usability data, will occur. Applicants must describe how they would work with a minimum of three pilot sites no later than year three of the project, where the project would continue to refine the developed products and resources; collect feasibility and usability data; and demonstrate that the educational technology-based tool or approach using AI is producing the intended outcome(s) for students with disabilities.

(C) Five dissemination sites. Applicants must describe how they would work with a minimum of five dissemination sites, where the project would complete its activities, by year four of the project period, to (1) refine the products for use by educators and students, and (2) evaluate the performance of the technology-based tool or approach using AI on educators' pedagogy and students' outcomes. Dissemination sites would receive less implementation support from the project than development and pilot sites.

Note: A site may not serve in more than one category (i.e., development, pilot, dissemination);

(ii) Describe how the project will incorporate components from implementation science ⁷ to select sites for continued use of the technology-based tool or approach using AI and support and sustain such continued use at the selected site;

⁷ The following website provides more information about implementation research: https://nirn.fpg.unc.edu/national-implementation-research-network.

(iii) Provide a plan to systematically disseminate information about the technology-based tool or approach using AI to varied audiences throughout the project period. To address this requirement the applicant must describe—

(A) The variety of dissemination strategies the project will use throughout the five years of the project to promote awareness and use of its technology-based tool or approach using AI;

(B) How the project will tailor dissemination strategies across all years of technology refinements and to ensure that, by the end of year two, the technology-based tool or approach can be accessed by, is reaching, and is used by intended recipients;

(C) Dissemination efforts that will go beyond conference presentations and articles and reach intended audiences to support implementation and scale up and increase the use of the technology-based tool or approach using AI by intended users;

(D) How the project's dissemination plan is connected to the proposed outcomes of the project; and

(E) How the project will ensure that all digital products and all external communications are routinely evaluated for and, if necessary, remediated to meet or exceed government or industry-recognized standards for accessibility; and

(iv) Provide assurances that all products or tools developed with project funds will be open educational resources.⁸

⁸ For additional information on the open licensing requirements please refer to 2 CFR 3474.20 and this resource https://oese.ed.gov/files/2022/06/Open-Licensing-Requirement-Quick-Guide.pdf.

(c) In the narrative section of the application under “Quality of the project evaluation,” include an evaluation plan for the project as described in the following paragraphs. In designing the evaluation plan, the applicant must—

(1) Provide a logic model (as defined in 34 CFR 77.1) or conceptual framework that depicts, at a minimum, the goals, activities, project evaluation, methods, performance measures, outputs, and intended outcomes of the proposed project;

(2) Provide a plan, linked to the proposed project's logic model or conceptual framework, for a formative evaluation of the proposed project's activities. The plan must describe how the formative evaluation will use clear performance objectives to ensure continuous improvement in the operation of the proposed project, including objective measures of progress in implementing the project and ensuring the quality of products and resources;

(3) Describe a plan or method for assessing—

(i) The development and pilot sites' educator training use and needs and the knowledge and availability of dedicated on-site technology training personnel;

(ii) The readiness of pilot sites to pilot or try-out the technology-based tool or approach using AI, including, at a minimum, their current infrastructure, technology or instructional alignment, available resources, and ability to build capacity;

(iii) Whether the technology-based tool or approach using AI has achieved its intended outcomes; and

(iv) The ongoing professional learning needs of educators to implement with fidelity;

(4) Describe a plan to collect formative and summative data from the professional learning to refine and evaluate the products and resources;

(5) Describe a plan or method for assessing whether dissemination efforts are increasing the knowledge and use by the intended users of the technology-based tool or approach using AI and the developed products and resources;

(6) Describe a plan to collect summative data to report on the quality, relevance, usefulness, and efficacy of the technology-based tool or approach using AI and its products and resources; and

(7) Provide an assurance that, by the end of the project period, the project will provide—

(i) Information supported by the project evaluation on the products and resources, including accessibility features, that will enable other sites to implement and sustain implementation of the technology-based tool or approach using AI;

(ii) Information in the project's final performance report, including implementation data, on how intended users (e.g., educators, families, and students) utilized the technology-based tool or approach using AI; how the technology-based tool or approach was implemented with fidelity; and the effectiveness of the technology-based tool or approach using AI in improving outcomes for students with disabilities;

(iii) Data on how the technology-based tool or approach using AI changed educators' practices; and

(iv) A plan for continuing to disseminate or scale up the technology-based tool or approach using AI and accompanying products beyond the sites directly involved in the project.

(d) Demonstrate, in the narrative section of the application under “Adequacy of resources and quality of project personnel,” how the—

(1) Proposed project will encourage applications for employment and project activity opportunities from persons who are members of groups that have traditionally been underrepresented based on race, color, national origin, gender, age, or disability, as appropriate;

(2) Proposed key project personnel, consultants, and subcontractors have the qualifications and experience to carry out the proposed activities and achieve the project's intended outcomes and how the proposed project team will include qualified experts on topics such as technology, education theory, practice, research methods, and scale-up or commercialization to support sustainability and dissemination;

(3) Applicant and any key partners have adequate resources to carry out the proposed activities; and

(4) Proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and resources provided are of high quality, relevant, and useful to recipients; and

(4) The proposed project will benefit from a diversity of perspectives, including those of families, educators, researchers, and policy makers, among others, in its development and operation.

(f) Address the following application requirements. The applicant must include—

(1) In Appendix A, personnel-loading charts and timelines, as applicable, to illustrate the management plan described in the narrative;

(2) In Appendix A, the logic model or conceptual framework by which the proposed project will develop project plans and activities and achieve its intended outcomes. The logic model or conceptual framework must include a description of any underlying concepts, assumptions, expectations, beliefs, or theories, as well as the presumed relationships or linkages among these variables, and any empirical support for this framework and depict, at a minimum, the goals, activities, outputs, and intended outcomes of the proposed project; and

Note: The following websites provide more information on logic models and conceptual frameworks: https://osepideasthatwork.org/sites/default/files/2021-12/ConceptualFramework_Updated.pdf;www.osepideasthatwork.org/resources-grantees/program-areas/ta-ta/tad-project-logic-model-and-conceptual-framework; https://www2.ed.gov/fund/grant/about/discretionary/2023-non-regulatory-guidance-evidence.pdf; and http://ies.ed.gov/pubsearch/pubsinfo.asp?pubid=REL2015057.

(3) In the budget, attendance at the following:

(i) A one-day kick-off meeting in Washington, DC, after receipt of the award, and an annual planning meeting in Washington, DC, with the Office of Special Education Programs (OSEP) project officer and other relevant staff during each subsequent year of the project period.

Note: Within 30 days of receipt of the award, a post-award teleconference must be held between the OSEP project officer and the grantee's project director or other authorized representative.

(ii) A three-day project directors' conference in Washington, DC, during each year of the project period.

(iii) One annual trip, to attend Department briefings, Department-sponsored conferences, and other meetings, as requested by OSEP.

Cohort Collaboration and Support

OSEP project officers will provide coordination support among the projects. Each project funded under this priority must—

(a) Participate in monthly conference-call discussions to collaborate on implementation and project issues; and

(b) Provide annual information to OSEP using a template that captures descriptive data on project site selection and the processes for implementation and use of the technology-based tool or approach.

Under 34 CFR 75.253, the Secretary may reduce continuation awards or discontinue awards in any year of the project period for excessive carryover balances or a failure to make substantial progress. The Department intends to closely monitor unobligated balances and substantial progress under this program and may reduce or discontinue funding accordingly.

Competitive Preference Priority: For FY 2024, this priority is a competitive preference priority. Under 34 CFR 75.105(c)(2)(i), we award an additional three points to an application that meets the competitive preference priority. Applicants should indicate in the abstract if the competitive preference priority is addressed and must address the competitive preference priority in the narrative section.

This priority is:

Applications from New Potential Grantees (0 or 3 points).

(a) Under this priority, an applicant must demonstrate that the applicant has not had an active discretionary grant under the 84.327S program from which it seeks funds, including through membership in a group application submitted in accordance with 34 CFR 75.127-75.129, in the five years before the deadline date for submission of applications under the program.

(b) For the purpose of this priority, a grant or contract is active until the end of the grant's or contract's project or funding period, including any extensions of those periods that extend the grantee's or contractor's authority to obligate funds.

References

Barua, P. D., Vicnesh, J., Gururajan, R., Oh, S. L., Palmer, E., Azizan, M. M., Kadri, N. A., & Acharya, U. R. (2022). Artificial intelligence enabled personalised assistive tools to enhance education of children with neurodevelopmental disorders—A review. International Journal of Environmental Research and Public Health, 19(3), 1192-1217. https://doi.org/10.3390/ijerph19031192.

Chen, X., Zou, D., Xie, H., Cheng, G., & Liu, C. (2022). Two decades of artificial intelligence in education: Contributors, collaborations, research topics, challenges, and future directions. Educational Technology & Society, 25(1), 28-47. www.jstor.org/stable/48647028.

Evmenova, A. S., Regan, K. S., Schladant, M., Hall, T. E., Buzhardt, J., Erickson, K. A., Ai, J., Sudduth, C., & Jackson, T. (2023). Stepping-up technology implementation—How does it happen? Journal of Special Education Technology, 38(1), 61-74. https://doi.org/10.1177/01626434221074357.

Huang, J., Salah, S., & Liu, Y. (2021). A review on artificial intelligence in education. Academic Journal of Interdisciplinary Studies, 10(3), 206-217. https://doi.org/10.36941/ajis-2021-0077.

Marino, M. T., Vasquez, E., Dieker, L., Basham, J., & Blackorby, J. (2023). The future of artificial intelligence in special education technology. Journal of Special Education Technology, 38(3), 404-416. https://doi.org/10.1177/01626434231165977.

Phillips, A., Pane, J. F., Reumann-Moore, R., & Shenbanjo, O. (2020). Implementing an adaptive intelligent tutoring system as an instructional supplement. Educational Technology Research and Development, 68, 1409-1437. https://doi.org/10.1007/s11423-020-09745-w.

U.S. Department of Education, Office of Educational Technology. (2023). Artificial intelligence and future of teaching and learning: Insights and recommendations. https://tech.ed.gov/ai-future-of-teaching-and-learning.

Zafari, M., Bazargani, J. S., Sadeghi-Niaraki, A. & Choi, S. M. (2022). Artificial intelligence applications in K-12 education: A systematic literature review. IEEE Access, 10, 61905-61921. https://doi.org/10.1109/ACCESS.2022.3179356.

Waiver of Proposed Rulemaking: Under the Administrative Procedure Act (APA) (5 U.S.C. 553) the Department generally offers interested parties the opportunity to comment on proposed priorities. Section 681(d) of IDEA, however, makes the public comment requirements of the APA inapplicable to the absolute priority in this notice.

Program Authority: 20 U.S.C. 1474 and 1481.

Note: Projects will be awarded and must be operated in a manner consistent with nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Administrative Priorities.

Note: The regulations in 34 CFR part 79 apply to all applicants except federally recognized Indian Tribes.

Note: The regulations in 34 CFR part 86 apply to institutions of higher education (IHEs) only.

II. Award Information

Type of Award: Cooperative agreements.

Estimated Available Funds: The Administration has requested $41,433,000 for the ETechM2 Program for FY 2024, of which we intend to use an estimated $1,500,000 for this competition. The actual level of funding, if any, depends on final congressional action. However, we are inviting applications to allow enough time to complete the grant process if Congress appropriates funds for this program.

Contingent upon the availability of funds and the quality of applications, we may make additional awards in FY 2025 from the list of unfunded applications from this competition.

Estimated Range of Awards: $350,000 to $375,000 per year.

Estimated Average Size of Awards: $375,000 per year.

Maximum Award: We will not make an award exceeding $375,000 for a single budget period of 12 months.

Estimated Number of Awards: 4.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 50 pages and (2) use the following standards:

• A “page” is 8.5″ x 11″, on one side only, with 1” margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (15 points).

(1) The Secretary considers the significance of the proposed project.

(2) In determining the significance of the proposed project, the Secretary considers the following factors:

(i) The significance of the problem or issue to be addressed by the proposed project;

(ii) The extent to which specific gaps or weaknesses in services, infrastructure, or opportunities have been identified and will be addressed by the proposed project, including the nature and magnitude of those gaps or weaknesses;

(iii) The potential contribution of the proposed project to increased knowledge or understanding of educational problems, issues, or effective strategies; and

(iv) The potential replicability of the proposed project or strategies, including, as appropriate, the potential for implementation in a variety of settings.

(b) Quality of project services (30 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project reflect up-to-date knowledge from research and effective practice;

(ii) The extent to which the training or professional development services to be provided by the proposed project are of sufficient quality, intensity, and duration to lead to improvements in practice among the recipients of those services;

(iii) The extent to which the services to be provided by the proposed project involve the collaboration of appropriate partners for maximizing the effectiveness of project services;

(iv) The extent to which the services to be provided by the proposed project are appropriate to the needs of the intended recipients or beneficiaries of those services; and

(v) The likely impact of the services to be provided by the proposed project on the intended recipients of those services.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project;

(ii) The extent to which the methods of evaluation include the use of objective performance measures that are clearly related to the intended outcomes of the project and will produce quantitative and qualitative data to the extent possible;

(iii) The extent to which the methods of evaluation provide for examining the effectiveness of project implementation strategies;

(iv) The extent to which the methods of evaluation will provide performance feedback and permit periodic assessment of progress toward achieving intended outcomes; and

(v) The extent to which the evaluation plan clearly articulates the key project components, mediators, and outcomes, as well as a measurable threshold for acceptable implementation.

(d) Adequacy of resources and quality of project personnel (20 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel;

(ii) The qualifications, including relevant training and experience, of project consultants or subcontractors;

(iii) The adequacy of support, including facilities, equipment, supplies, and other resources, from the applicant organization or the lead applicant organization;

(iv) The relevance and demonstrated commitment of each partner in the proposed project to the implementation and success of the project; and

(v) The extent to which the costs are reasonable in relation to the objectives, design, and potential significance of the proposed project.

(e) Quality of the management plan (15 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks;

(ii) The extent to which the time commitments of the project director and principal investigator and other key project personnel are appropriate and adequate to meet the objectives of the proposed project;

(iii) How the applicant will ensure that a diversity of perspectives are brought to bear in the operation of the proposed project, including those of parents, teachers, the business community, a variety of disciplinary and professional fields, recipients or beneficiaries of services, or others, as appropriate; and

(iv) The adequacy of procedures for ensuring feedback and continuous improvement in the operation of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we have established a set of performance measures, including long-term measures, that are designed to yield information on various aspects of the effectiveness and quality of the ETechM2 Program. These measures are:

• Program Performance Measure 1: The percentage of ETechM2 Program products and services judged to be of high quality by an independent review panel of experts qualified to review the substantial content of the products and services.

• Program Performance Measure 2: The percentage of ETechM2 Program products and services judged to be of high relevance to improving outcomes for infants, toddlers, children, and youth with disabilities.

• Program Performance Measure 3: The percentage of ETechM2 Program products and services judged to be useful in improving results for infants, toddlers, children, and youth with disabilities.

• Program Performance Measure 4.1: The Federal cost per unit of accessible educational materials funded by the ETechM2 Program.

• Program Performance Measure 4.2: The Federal cost per unit of accessible educational materials from the National Instructional Materials Access Center funded by the ETechM2 Program.

• Program Performance Measure 4.3: The Federal cost per unit of video description funded by the ETechM2 Program.

Program Performance Measures 1, 2, and 3 apply to projects funded under this competition, and grantees are required to submit data on Program Performance Measures 1, 2, and 3 as directed by OSEP.

Grantees will be required to report information on their project's performance in annual performance reports and additional performance data to the Department (34 CFR 75.590 and 75.591).

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-04316 Filed 2-29-24; 8:45 am]

BILLING CODE 4000-01-P